NATIONAL WOMEN'S BUSINESS COUNCIL

Quarterly Public Meeting

AGENCY: National Women's Business Council.

ACTION: Notice of open public meeting.

DATES: The National Women's Business Council December Public Meeting will be held on Wednesday, December 7, 2016, from 2:00 p.m. to 4:00 p.m. EST.

ADDRESSES: The meeting will be held virtually via teleconference and webinar.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 1st quarter meeting for Fiscal Year 2017. The program will include remarks from the Council Chair Carla Harris, updates on the Council's work from Council Members, and a public discussion on the Council's latest research report on supplier diversity. Time will be reserved at the end of the webinar for participants to address Council Members with questions, comments, or feedback.

FOR FURTHER INFORMATION CONTACT: The meeting is open to the public; advance notice of attendance is requested. To RSVP and confirm attendance, the general public should email info@nwbc.gov with subject line: “RSVP for 12/07/16 Public Meeting.” For additional questions, please email info@nwbc.gov or call the main office number at 202-205-3850.

For more information, please visit the National Women's Business Council Web site at www.nwbc.gov.

Dated: November 15, 2016.
Miguel J. L'Heureux,
SBA Committee Management Officer.

[FR Doc. 2016-28488 Filed 11-25-16; 8:45 am]

BILLING CODE P